ENVIRONMENTAL PROTECTION AGENCY

[EPA-HQ-OECA-2012-0687; FRL-9999-04-OMS]

Information Collection Request Submitted to OMB for Review and Approval; Comment Request; NESHAP for Stationary Combustion Turbines (Renewal)

AGENCY: Environmental Protection Agency (EPA).

ACTION: Notice.

SUMMARY: The Environmental Protection Agency (EPA) has submitted an information collection request (ICR), NESHAP for Stationary Combustion Turbines (EPA ICR Number 1967.08, OMB Control Number 2060-0540), to the Office of Management and Budget (OMB) for review and approval in accordance with the Paperwork Reduction Act. This is a proposed extension of the ICR, which is currently approved through November 30, 2019. Public comments were previously requested, via the Federal Register, on May 6, 2019 during a 60-day comment period. This notice allows for an additional 30 days for public comments. A fuller description of the ICR is given below, including its estimated burden and cost to the public. An agency may neither conduct nor sponsor, and a person is not required to respond to, a collection of information unless it displays a currently valid OMB control number.

DATES: Additional comments may be submitted on or before September 30, 2019.

ADDRESSES: Submit your comments, referencing Docket ID Number EPA-HQ-OECA-2012-0687, to: (1) EPA online using www.regulations.gov (our preferred method), or by email to docket.oeca@epa.gov, or by mail to: EPA Docket Center, Environmental Protection Agency, Mail Code 28221T, 1200 Pennsylvania Ave. NW, Washington, DC 20460; and (2) OMB via email to oira_submission@omb.eop.gov. Address comments to OMB Desk Officer for EPA.

EPA's policy is that all comments received will be included in the public docket without change, including any personal information provided, unless the comment includes profanity, threats, information claimed to be Confidential Business Information (CBI), or other information whose disclosure is restricted by statute.

FOR FURTHER INFORMATION CONTACT: Patrick Yellin, Monitoring, Assistance, and Media Programs Division, Office of Compliance, Mail Code 2227A, Environmental Protection Agency, 1200 Pennsylvania Ave. NW, Washington, DC 20460; telephone number: (202) 564-2970; fax number: (202) 564-0050; email address: yellin.patrick@epa.gov.

SUPPLEMENTARY INFORMATION: Supporting documents which explain in detail the information that the EPA will be collecting are available in the public docket for this ICR. The docket can be viewed online at www.regulations.gov, or in person at the EPA Docket Center, EPA West, Room 3334, 1301 Constitution Ave. NW, Washington, DC. The telephone number for the Docket Center is 202-566-1744. For additional information about EPA's public docket, visit: http://www.epa.gov/dockets.

Abstract: The National Emission Standards for Hazardous Air Pollutants (NESHAP) for Stationary Combustion Turbines were proposed on January 14, 2003; promulgated on March 5, 2004; and amended last on April 20, 2006. The regulations apply to sources that either commenced construction or reconstruction after January 14, 2003. On August 18, 2004, these standards were amended to stay the effectiveness for the two gas-fired stationary combustion turbine subcategories (i.e., lean pre-mix gas-fired turbines and diffusion flame gas-fired turbines). Under this stay, new sources in either subcategory that are either constructed or reconstructed after January 14, 2003 are required to submit initial notification reports, but are also relieved of the obligation to comply with other reporting or monitoring requirements until EPA makes a final decision. Amendments to the NESHAP were proposed on April 12, 2019, as a result of a residual risk and technology review (RTR) required under the Clean Air Act (CAA; however, these amendments have not been finalized and no burden associated with the proposed amendments is included in this ICR. This information is being collected to assure compliance with 40 CFR part 63, subpart YYYY.

In general, all NESHAP standards require initial notifications, performance tests, and periodic reports by the owners/operators of the affected facilities. They are also required to maintain records of the occurrence and duration of any startup, shutdown, or malfunction in the operation of an affected facility, or any period during which the monitoring system is inoperative. These notifications, reports, and records are essential in determining compliance, and are required of all affected facilities subject to NESHAP.

Form Numbers: None.

Respondents/affected entities: Owners or operators of stationary combustion turbines.

Respondent's obligation to respond: Mandatory 40 CFR part 63.

Estimated number of respondents: 122 (total).

Frequency of response: Annual, semiannual.

Total estimated burden: 1,430 hours (per year). Burden is defined at 5 CFR 1320.3(b).

Total estimated cost: $166,000 (per year), which includes $0 in annualized capital/startup and/or operation & maintenance costs.

Changes in the Estimates: The decrease in burden from the most recently-approved ICR is due to an adjustment. The number of respondents in this ICR is based on an inventory conducted as part of the Risk and Technology Review for this source category. The inventory reflects an increase in the number of facilities with gas-fired stationary combustion turbines and a decrease in the number of facilities with landfill or digester gas-fired and oil-fired stationary combustion turbines. The decrease in burden, capital, and operation and maintenance costs reflects industry trends towards gas-fired turbines. Turbines included in the two gas-fired subcategories that are either constructed or reconstructed after January 14, 2003 are required to submit initial notification reports, but are currently not required to comply with other reporting or monitoring requirements until EPA makes a final decision on the rule.

Courtney Kerwin,
Director, Regulatory Support Division.

[FR Doc. 2019-18774 Filed 8-29-19; 8:45 am]

BILLING CODE 6560-50-P